DEPARTMENT OF ENERGY

Federal Energy Regulatory Commission

[Project No. 5362-021]

Kennebunk Light and Power District; Notice of Intent To Prepare an Environmental Assessment

On March 31, 2021, and supplemented on April 8, 2021, Kennebunk Light and Power District (licensee) filed an application for surrender of its license for the Lower Mousam Hydroelectric Project No. 5362. The project is located on the Mousam River in York County, Maine. The project does not occupy any Federal lands.

The licensee proposes to surrender its license because more cost-effective sources of electricity are available and the project is no longer cost-effective to operate. The licensee proposes to decommission the project by removing all flashboards, disconnecting the leads from the generators, removing all generation and electrical equipment, as well as securing each project development with fencing. The dams would remain in place and no ground disturbing activities are proposed other than fencing.

Commission staff issued a public notice of the application on April 21, 2021, setting May 21, 2021 as the deadline for filing comments, motions to intervene, and protests. The U.S. Department of Commerce, Maine Department of Inland Fisheries and Wildlife, and the U.S. Department of Interior filed timely notices of intervention and comments. Maine Rivers, Mousam and Kennebunk Rivers Alliance, Mousam Rivers Coalition, Maine Department of Marine Resources, and Trout Unlimited filed timely motions to intervene and comments. Additionally, non-profits and numerous private citizens filed comments or protests, including: Maine Audubon Society, National Marine Fisheries Service, the U.S. Fish and Wildlife Service, Maine Audubon Society, and the Wells National Estuarine Research Reserve. Numerous commenters recommend removal of the dams and oppose surrender of the project as proposed by the licensee (i.e., without dam removal).

This notice identifies Commission staff's intention to prepare an environmental assessment (EA) for the project.¹ Commission staff plans to issue an EA by April 30, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1728462509. 40 CFR 1501.5(c)(4) (2024).

With this notice, the Commission is inviting federal, state, local, and Tribal agencies with jurisdiction and/or special expertise with respect to environmental issues affected by the proposal to cooperate in the preparation of the EA planned to be issued April 2025. Agencies wishing to cooperate, or further discuss the benefits, responsibilities, and obligations of the cooperating agency role, should contact staff listed at the bottom of this notice by February 5, 2025. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Diana Shannon at (202) 502-6136 or diana.shannon@ferc.gov.

Dated: January 15, 2025.
Debbie-Anne A. Reese,
Secretary.

[FR Doc. 2025-01501 Filed 1-21-25; 8:45 am]

BILLING CODE 6717-01-P